Proclamation 9513 of September 30, 2016

National Community Policing Week, 2016

By the President of the United States of America

A Proclamation

Police officers are essential members of our communities—maintaining our way of life depends on their dedicated efforts to keep us safe. These officers hold significant civic and law enforcement responsibilities and put their lives at risk to protect us each day, at times facing some of the most adverse circumstances imaginable. The overwhelming majority of police officers are fair, dedicated, and honest public servants who strive daily to cultivate and sustain positive relationships with the communities they serve and protect. As recent tragedies have illustrated, however, it is clear that there are still too many places in America where these relationships are strained and where officers and community members have struggled to build and maintain trust.

During National Community Policing Week, we reaffirm our commitment to supporting and advancing the practice of community policing and to fortifying the bonds between police officers and communities. Community policing recognizes that law enforcement cannot solve public safety problems alone and encourages interactive partnerships with relevant stakeholders—including community groups, nonprofits, faith-based organizations, and businesses. This active collaboration can improve public trust and fortify relationships, not only advancing public safety, but also deepening social connectivity and creating lasting solutions to challenging problems we face every day.

The underlying tensions that sometimes exist between law enforcement officers and communities span decades and reflect a breadth of social and cultural challenges, including racial and socioeconomic disparities. Through meaningful efforts to strengthen community policing, we can meet these challenges, improve these vital relationships, and make real and lasting progress. Together, we can take constructive steps to support our women and men in uniform while instilling confidence in the fairness of the justice system for everybody and ensuring that law enforcement officers discharge their duties impartially.

A critical part of enhancing trust is making certain that when an incident occurs, the public is confident that an investigation is fair and effective—both for the officer and for the families of those who have been affected. We must also work with law enforcement on training, hiring, and recruiting techniques and provide support and proper resources as they deal with the challenges of the job. In 2015, I announced a Task Force on 21st Century Policing to bring together community leaders and law enforcement to provide recommendations to help us build the kind of trust we need. In the time since the Task Force issued a report of their findings, we have seen progress with respect to data gathering, training, transparency, and community outreach—and communities across America are working to implement these recommendations. We must also recognize that we cannot keep expecting police to solve the issues we fail to address as a society, including poverty, substandard schools, inadequate job opportunities, and lack of care for mental illnesses or substance use disorders; doing so contributes to unrest in communities and exacerbates tensions.

My Administration has worked to bridge divides and bolster community policing efforts across our country. In 2014, the Department of Justice (DOJ) launched the National Initiative for Building Community Trust and Justice to invest in training, evidence-based strategies, and research to help reduce implicit bias and enhance procedural justice and reconciliation. The DOJ has provided additional resources to the Office of Community Oriented Policing Services for hiring police officers across America and advancing 21st-century policing efforts. We are also continuing to provide millions of dollars in grants to agencies that demonstrate robust community policing initiatives. Last year, the White House and the DOJ launched the Police Data Initiative to encourage law enforcement, technologists, and researchers to use data to increase transparency and strengthen accountability between community members and police. And this summer, we launched the Data-Driven Justice Initiative to equip law enforcement officers with the tools they need to safely and effectively divert low-level offenders with mental illnesses out of the criminal justice system. The Federal Government must continue to partner with State and local leaders, as well as the law enforcement community, to expand best practices that increase trust and public safety.

Every American has the power to make change in their communities. By working together to improve law enforcement practices and ensure we give both police officers and community members the respect they deserve, we can fulfill this important endeavor. This week, let us rededicate ourselves to building a future in which police officers are honored for their sacrifices and supported by their communities and in which members of those communities can truly feel they are being served fairly and justly by our women and men in blue.

NOW, THEREFORE, I, BARACK OBAMA, President of the United States of America, by virtue of the authority vested in me by the Constitution and the laws of the United States, do hereby proclaim October 2 through October 8, 2016, as National Community Policing Week. I call upon law enforcement agencies, elected officials, and all Americans to observe this week by recognizing ways to improve public safety, rebuild trust, and strengthen community relationships.

IN WITNESS WHEREOF, I have hereunto set my hand this thirtieth day of September, in the year of our Lord two thousand sixteen, and of the Independence of the United States of America the two hundred and forty-first.

[FR Doc. 2016-24374

Filed 10-5-16; 8:45 am]

Billing code 3295-F7-P